DEPARTMENT OF AGRICULTURE

Forest Service

Notice of Resource Advisory Committee Meeting

AGENCY: Modoc Resource Advisory Committee, Alturas, California, USDA Forest Service.

ACTION: Notice of meeting.

SUMMARY: Pursuant to the authorities in the Federal Advisory Committees Act (Pub. L. 92-463) and under the Secure Rural Schools and Community Self-Determination Act of 2000 (Pub. L. 106-393) the Modoc National Forest's Modoc Resource Advisory Committee will meet Monday, June 7th, 2004, Monday, July 12th, 2004, and Monday, August 2nd, 2004, in Alturas, California, for business meetings. The meetings are open to the public.

SUPPLEMENTARY INFORMATION: The business meeting June 7th begins at 6 p.m., at the Modoc National Forest Office, Conference Room, 800 West 12th St., Alturas. Agenda topics will include approval of 05/03/04 minutes, projects submitted for the new fiscal year 2005, reports from subcommittees and review and selection of projects that will improve the maintenance of existing infrastructure, implement stewardship objectives that enhance forest ecosystems, and restore and improve health and water quality that meet the intent of Public Law 106-393. Time will also be set aside for public comments at the beginning of the meeting. The business meeting July 12th begins at 6 p.m., at the Modoc National Forest Office, Conference Room, 800 West 12th St., Alturas. Agenda topics will include approval of the 06/07/04 minutes, projects submitted for the new fiscal year 2005, reports from subcommittees and selection of projects on the Modoc National Forest that meet the intent of Public Law 106-393. Time will be set aside for public comments at the beginning of the meeting. The business meeting August 2nd begins at 6 p.m., at the Modoc National Forest Office, Conference Room, 800 West 12th St., Alturas. Agenda topics will include approval of the 07/12/04 minutes, projects submitted for the new fiscal year 2005, reports from subcommittees and selection of projects on the Modoc National Forest that meet the intent of Public Law 106-393. Time will be set aside for public comments at the beginning of the meeting.

FOR FURTHER INFORMATION CONTACT: Stan Sylva, Forest Supervisor and Designated Federal Officer, at (530) 233-8700; or Public Affairs Officer Nancy Gardner at (530) 233-8713.

Jim Irvin,
Acting Forest Supervisor.

[FR Doc. 04-12219 Filed 5-28-04; 8:45 am]

BILLING CODE 3410-11-P